NATIONAL ARCHIVES AND RECORDS ADMINISTRATION

Senior Executive Service (SES) Performance Review Board; Members

AGENCY: National Archives and Records Administration.

ACTION: Notice.

SUMMARY: Notice is hereby given of the appointment of members of the National Archives and Records Administration (NARA) Performance Review Board.

EFFECTIVE DATE: This appointment is effective on December 29, 2000.

FOR FURTHER INFORMATION CONTACT: Steven G. Rappold, Human Resources Services Division (NHH), National Archives at College Park, 8601 Adelphi Road, College Park, MD 20740-6001, (301) 713-6760.

SUPPLEMENTARY INFORMATION: Section 4314(c) of Title 5, U.S.C., requires each agency to establish, in accordance with regulations prescribed by the Office of Personnel Management, one or more SES Performance Review Boards. The Board shall review the initial appraisal of a senior executive's performance by the supervisor and recommendations regarding the recertification of senior executives, and recommend final action to the appointing authority regarding matters related to senior executive performance.

The members of the Performance Review Board for the National Archives and Records Administration are: Lewis J. Bellardo, Deputy Archivist of the United States and Chief of Staff, Adrienne C. Thomas, Assistant Archivist for Administrative Services, and Richard L. Claypoole, Assistant Archivist for Regional Records Services. These appointments supersede all previous appointments.

Dated: December 21, 2000.
John W. Carlin,
Archivist of the United States.

[FR Doc. 00-33254 Filed 12-28-00; 8:45 am]

BILLING CODE 7515-01-P